NUCLEAR REGULATORY COMMISSION

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

1. Type of submission, new, revision, or extension: Revision.

2. The title of the information collection: NRC Form 4, “Cumulative Occupational Dose History” and NRC Form 5, “Occupational Exposure Record for a Monitoring Period”.

3. The form number if applicable: NRC Form 4 (3150-0005) and NRC Form 5 (3150-0006).

4. How often the collection is required: NRC Form 4: Occasionally; NRC Form 5: Annually.

5. Who is required or asked to report: NRC licensees who are required to comply with 10 CFR part 20.

6. An estimate of the number of annual responses: NRC Form 4: 20,024 (19,822 from reactor sites and 202 from material licensees) and NRC Form 5: 172,419 (160,701 from reactor sites and 11,718 from material licensees.

7. The estimated number of annual respondents: NRC Form 4: 218 (104 from reactor sites and 114 from materials licensees) and NRC Form 5: 4,212 (104 reactor sites and 114 materials licensees, plus an additional 3,994 materials licensees recordkeepers).

8. An estimate of the total number of hours needed annually to complete the requirement or request: NRC Form 4: 10,012 hours on an average of 0.5 hours per response; NRC Form 5: 65,618 hours (56,898 hours for recordkeeping on an average of 0.33 hours per record and 8,720 hours for reporting on an average of 40 hours per licensee).

9. An indication of whether Section 3507(d), Public Law 104-13 applies: N/A.

10. Abstract: NRC Form 4 is used to record the summary of an individual's cumulative occupational radiation dose up to and including the current year to ensure that the dose does not exceed regulatory limits.

NRC Form 5 is used to record and report the results of individual monitoring for occupational radiation exposure during a one-year (calendar year) period to ensure regulatory compliance with annual radiation dose limits.

A copy of the final supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions should be directed to the OMB reviewer listed below by September 5, 2007. Comments received after this date will be considered if it is practical to do so, but assurance of consideration cannot be given to comments received after this date.

Nathan Frey, Desk Officer, Office of Information and Regulatory Affairs (3150-0005 and 3150-0006), NEOB-10202, Office of Management and Budget, Washington, DC 20503.

Comments can also be e-mailed to Nathan.Frey@omb.eop.gov or submitted by telephone at (202) 395-4650.

The NRC Clearance Officer is Margaret A. Janney, 301-415-7245.

Dated at Rockville, Maryland, this 30th day of July, 2007.
For the Nuclear Regulatory Commission.
Christopher Colburn,
Acting NRC Clearance Officer, Office of Information Services.

[FR Doc. E7-15190 Filed 8-3-07; 8:45 am]

BILLING CODE 7590-01-P